DEPARTMENT OF TRANSPORTATION

Surface Transportation Board

[Docket No. RR 999 (Amendment No. 5)]

Released Rates of Motor Common Carriers of Household Goods

AGENCY: Surface Transportation Board.

ACTION: Notice, request for comments.

SUMMARY: The Surface Transportation Board seeks written public comments and evidence on the average per-pound replacement value for household goods that are lost or damaged while in the care of a moving company.

DATES: Comments are due on or before March 15, 2011.

ADDRESSES: Comments may be submitted either via the Board's e-filing format or in traditional paper format. Any person using e-filing should attach a document and otherwise comply with the instructions at the E-FILING link on the Board's website at http://www.stb.dot.gov. Any person submitting a filing in the traditional paper format should send an original and 10 copies referring to Docket No. RR 999 (Amendment No. 5) to: Surface Transportation Board, 395 E Street, SW., Washington, DC 20423-0001.

FOR FURTHER INFORMATION, CONTACT: Julia Farr (202) 245-0359. Assistance for the hearing impaired is available through the Federal Information Relay Service (FIRS) at: (800) 877-8339.

SUPPLEMENTARY INFORMATION: The Board issued a decision in this proceeding on January 21, 2011. In that decision, the Board, following notice and comment, adopted certain changes concerning the responsibility of interstate moving companies to pay for damage to or loss of customers' household goods and required the moving companies to amend particular documents they provide to consumers. The decision is available on the Board's Web site at http://www.stb.dot.gov. The Board seeks comment on one aspect of that decision: The calculation of replacement value of household goods when the consumer elects to have the moving company assume liability for the replacement value of the consumer's goods but neglects to write in the total value for the shipment.

Unless otherwise agreed to, a moving company is liable for the cost to replace lost or damaged goods, up to a total value stated by the consumer. For instance, if the consumer stated that the shipment had a value of $200,000, and the entire shipment were destroyed, the moving company would be liable for a $200,000. However, if a consumer does not indicate a total value for the shipment, the Board's decision would require the moving company to be liable for the greater of (1) $6,000 or (2) $6.00 per pound of the lost or destroyed item(s). The $6.00-per-pound figure is meant to represent the replacement value of an average shipment of household goods. The Board seeks comments and evidence concerning this figure, particularly whether some other figure would more closely represent the average per-pound value of household goods in an interstate move. Any interested person may submit comments or evidence. If no evidence or comments are received on this issue, the Board's decision establishing the $6.00-per-pound limit will become effective on April 1, 2011.

This action will not significantly affect either the quality of the human environment or the conservation of energy resources.

Decided: January 26, 2011.
By the Board, Chairman Elliott, Vice Chairman Nottingham, and Commissioner Mulvey.
Jeffrey Herzig,
Clearance Clerk.

[FR Doc. 2011-2019 Filed 1-28-11; 8:45 am]

BILLING CODE 4915-01-P